SECURITIES AND EXCHANGE COMMISSION

[File No. 500-1]

In the Matter of Urban AG Corp.; Order of Suspension of Trading

March 31, 2015.

It appears to the Securities and Exchange Commission that there is a lack of current and accurate information concerning the securities of Urban AG Corporation (“Urban AG”) because it has not filed a periodic report since it filed its Form 10-Q for the period ending September 30, 2013, filed on November 19, 2013. Urban AG's common stock (ticker “AQUM”) is quoted on OTC Link (previously “Pink Sheets”) operated by OTC Markets Group, Inc.

The Commission is of the opinion that the public interest and the protection of investors require a suspension of trading in the securities of Urban AG.

Therefore, it is ordered, pursuant to Section 12(k) of the Securities Exchange Act of 1934, that trading in the securities of Urban AG is suspended for the period from 9:30 a.m. EDT on March 31, 2015, through 11:59 p.m. EDT on April 14, 2015.

By the Commission.
Jill M. Peterson,
Assistant Secretary.

[FR Doc. 2015-07672 Filed 3-31-15; 4:15 pm]

BILLING CODE CODE 8011-01-P